Presidential Determination No. 2000-17 of March 2, 2000

Drawdown Under Section 506(a)(2) of the Foreign Assistance Act of 1961, as Amended, To Provide Emergency Disaster Assistance in Southern Africa

Memorandum for the Secretary of State [and] the Secretary of Defense

Pursuant to the authority vested in me by section 506(a)(2) of the Foreign Assistance Act of 1961, as amended, 22 U.S.C. 2318(a)(2) (the “Act”), I hereby determine that it is in the national interest of the United States to draw down articles and services from the inventory and resources of the Department of Defense, for the purpose of providing international disaster assistance to Southern Africa, including Mozambique, South Africa, Zimbabwe, and Botswana.

Therefore, I direct the drawdown of up to $37.6 million of articles and services from the inventory and resources of the Department of Defense for Southern Africa, including Mozambique, South Africa, Zimbabwe, and Botswana for the purposes and under the authorities of chapter 9 of part I of the Act.

The Secretary of State is authorized and directed to report this determination to the Congress immediately and to arrange for its publication in the Federal Register.

wj

THE WHITE HOUSE,

Washington, March 2, 2000.

[FR Doc. 00-6472

Filed 3-22-00; 10:39 am]

Billing code 4710-10-M